DEPARTMENT OF TRANSPORTATION

Federal Aviation Administration

Third Meeting: RTCA Special Committee 233 (SC 233) Addressing Human Factors/Pilot Interface Issues for Avionics

AGENCY: Federal Aviation Administration (FAA), U.S. Department of Transportation (DOT).

ACTION: Third Meeting Notice of RTCA Special Committee 233.

SUMMARY: The FAA is issuing this notice to advise the public of the third meeting of the RTCA Special Committee 233.

DATES: The meeting will be held September 15th-17th from 8:00 a.m.-4:30 p.m.

ADDRESSES: The meeting will be held at RTCA Headquarters, 1150 18th Street NW., Suite 910, Washington, DC 20036, Tel: (202) 330-0662.

FOR FURTHER INFORMATION CONTACT: The RTCA Secretariat, 1150 18th Street NW., Suite 910, Washington, DC, 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a) (2) of the Federal Advisory Committee Act (Pub. L. 92-463, 5 U.S.C., App.), notice is hereby given for a meeting of the RTCA Special Committee 233. The agenda will include the following:

Tuesday, September 15, 2015 (8:00 a.m.-4:30 p.m.)

1. Introduction, Upcoming PMC Dates, Minutes from Last Meeting

2. Rotorcraft Directorate Test Pilot Evaluations

3. Outline Discussion

4. Subcommittee Out-brief

5. Subcommittee Initial Breakout Session

6. Planning for Next Meeting

Wednesday, September 16, 2015 (8:00 a.m.-4:30 p.m.)

1. Subcommittee Breakout Sessions

2. Subcommittee Breakout Sessions

3. Subcommittee Out-brief

Thursday, September 17, 2015 (8:00 a.m.-2:00 p.m.)

1. Leadership Team Wrap-up/Discussion on Outline Content

2. Subcommittee Assignments

3. Meeting Recap, Action Items, Key Dates

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 19, 2015.
Latasha Robinson,
Management & Program Analyst, Next Generation, Enterprise Support Services Division, Federal Aviation Administration.

[FR Doc. 2015-21184 Filed 8-26-15; 8:45 am]

BILLING CODE 4910-13-P